DEPARTMENT OF COMMERCE

National Oceanic and Atmospheric Administration

RIN 0648-XN34

Taking and Importing Marine Mammals; Navy Training Activities Conducted Within the Northwest Training Range Complex (NWTRC) and Military Training Activities and Research, Development, Testing and Evaluation Conducted Within the Mariana Islands Range Complex (MIRC)

AGENCY: National Marine Fisheries Service, National Oceanic and Atmospheric Administration, Commerce.

ACTION: Notice; issuance of letters of authorization.

SUMMARY: In accordance with the Marine Mammal Protection Act (MMPA) and implementing regulations, notification is hereby given that two 1-year letters of authorization (LOA) have been issued to the U.S Navy (Navy) for the incidental take of marine mammals during: Navy activities within the NWTRC, off the coasts of Washington, Oregon, and northern California, for the period of October 2010 through October 2011, and; Navy activities conducted in the Mariana Islands Range Complex (MIRC) study area for the period of July 2010 through July 2011. These activities are considered military readiness activities pursuant to the Marine Mammal Protection Act (MMPA), as amended by the National Defense Authorization Act of 2004 (NDAA).

DATES: The NWTRC LOA is effective November 12, 2010, through November 11, 2011, and the MIRC LOA is effective August 12, 2010 through August 11, 2011.

ADDRESSES: The LOAs and supporting documentation are available by writing to Michael Payne, Chief, Permits, Conservation, and Education Division, Office of Protected Resources, National Marine Fisheries Service, 1315 East-West Highway, Silver Spring, MD 20910-3225, by telephoning one of the contacts listed here (FOR FURTHER INFORMATION CONTACT), or online at: http://www.nmfs.noaa.gov/pr/permits/incidental.htm#applications.

FOR FURTHER INFORMATION CONTACT: Jolie Harrison, Office of Protected Resources, NMFS, (301) 713-2289, ext. 166.

SUPPLEMENTARY INFORMATION:

Background

Sections 101(a)(5)(A) and (D) of the MMPA (16 U.S.C. 1361 et seq.) direct the Secretary of Commerce (Secretary) to allow, upon request, the incidental, but not intentional taking of marine mammals by U.S. citizens who engage in a specified activity (other than commercial fishing) during periods of not more than five consecutive years each if certain findings are made and regulations are issued or, if the taking is limited to harassment and of no more than one year, the Secretary shall issue a notice of proposed authorization for public review.

Authorization shall be granted if NMFS finds that the taking will have a negligible impact on the species or stock(s), will not have an unmitigable adverse impact on the availability of the species or stock(s) for subsistence uses, and if the permissible methods of taking and requirements pertaining to the mitigation, monitoring and reporting of such taking are set forth. NMFS has defined “negligible impact” in 50 CFR 216.103 as:

an impact resulting from the specified activity that cannot be reasonably expected to, and is not reasonably likely to, adversely affect the species or stock through effects on annual rates of recruitment or survival.

The NDAA (Pub. L. 108-136) removed the “small numbers” and “specified geographical region” limitations and amended the definition of “harassment” as it applies to a “military readiness activity” to read as follows (Section 3(18)(B) of the MMPA):

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Requests

NWTRC

In September 2008, NMFS received an application from the Navy requesting authorization for the take of individuals of 26 species of marine mammals incidental to upcoming Navy training activities to be conducted within the NWTRC, which extends west to 250 nautical miles (nm) (463 kilometers [km]) beyond the coast of Northern California, Oregon, and Washington and east to Idaho and encompasses 122,400 nm² (420,163 km²) of surface/subsurface ocean operating areas. These training activities are military readiness activities under the provisions of the NDAA. These activities are classified as military readiness activities. These activities may incidentally take marine mammals present within the NWTRC Study Area by exposing them to sound from mid-frequency or high frequency active sonar (MFAS/HFAS) or to underwater detonations at levels that NMFS associates with the take of marine mammals. The Navy's model, which did not factor in any potential benefits of mitigation measures, predicted that 13 individual marine mammals would be exposed to levels of sound or pressure that would result in injury; thus, NMFS is authorizing the take of 13 individuals per year by Level A Harassment. However, NMFS and the Navy have determined that injury can most likely be avoided through the implementation of the required mitigation measures. No mortality of marine mammals is anticipated or authorized incidental to naval exercises in the NWTRC.

MIRC

In August 2008, NMFS received an application from the Navy requesting authorization for the take of individuals of 26 species of marine mammals incidental to upcoming Department of Defense (including Navy, USMC, and USAF) training and research, development, testing, and evaluation (RDT&E) activities to be conducted within the MIRC study area, which encompasses a 501,873-square-nautical mile (nm²) area around the islands, including Guam, Tinian, Saipan, Rota, Farallon de Medinilla, and also includes ocean areas in both the Pacific Ocean and the Philippine Sea. These training activities are military readiness activities under the provisions of the NDAA. These military activities may incidentally take marine mammals present within the MIRC study area by exposing them to sound from mid-frequency or high frequency active sonar (MFAS/HFAS) or underwater detonations. After submitting supplemental applications, the Navy requested authorization to take individuals of 26 species of marine mammals by Level B Harassment, 2 individuals of 2 species by Level A Harassment annually, and 10 individual beaked whales by mortality over the course of the 5-year regulations. The Navy's model, which did not factor in any potential benefits of mitigation measures, predicted that 2 individual marine mammals would be exposed to levels of sound or pressure that would result in injury; thus, NMFS is authorizing the take, by Level A Harassment of 2 individuals per year. However, NMFS and the Navy have determined that injury can most likely be avoided through the implementation of the Navy's proposed mitigation measures. Further, although it does not anticipate that it will occur, the Navy requested, and NMFS is authorizing the take, by injury or mortality, of up to 10 beaked whales over the course of the 5-year regulations.

Authorizations

NWTRC

On November 10, 2010, NMFS' final rule governing the take of marine mammals incidental the Navy's activities in the NWTRC became effective. In accordance with the final rule, NMFS issued an LOA to the Navy on November 12, 2010, authorizing harassment of individuals or 26 species of marine mammals incidental to U.S. Navy training activities in the NWTRC. Issuance of this LOA is based on findings, described in the preamble to the final rule (75 FR 69296, November 10, 2010), that the taking resulting from the activities described in this LOA will have a negligible impact on marine mammal stocks and will not have an unmitigable adverse impact on the availability of the affected marine mammal stock for subsistence uses. The LOA describes the permissible methods of taking and includes requirements pertaining to the mitigation, monitoring and reporting of such taking.

MIRC

On August 3, 2010, NMFS' final rule governing the take of marine mammals incidental the Navy's activities in the MIRC became effective. In accordance with the final rule, NMFS issued an LOA to the Navy on August 12, 2010, authorizing harassment of individuals of 26 species of marine mammals and mortality of 10 individual beaked whales incidental to U.S. military training and RDT&E activities in the MIRC Study Area (as noted above, mortality of beaked whales may not exceed 10 individuals in the five years covered by the regulations). Issuance of this LOA is based on findings, described in the preamble to the final rule (75 FR 45527, August 3, 2010), that the taking resulting from the activities described in this LOA will have a negligible impact on marine mammal stocks and will not have an unmitigable adverse impact on the availability of the affected marine mammal stock for subsistence uses. The LOA describes the permissible methods of taking and includes requirements pertaining to the mitigation, monitoring and reporting of such taking.

Dated: December 13, 2010.
Jolie Harrison,
Acting Chief, Permits, Conservation, and Recreation, Office of Protected Resources, National Marine Fisheries Service.

[FR Doc. 2010-31920 Filed 12-17-10; 8:45 am]

BILLING CODE 3510-22-P